DEPARTMENT OF TRANSPORTATION

Federal Aviation Administration

14 CFR Part 73

[Docket No. FAA-2001-10285; Airspace Docket No. 01-ASO-8]

RIN 2120-AA66

Change of Using Agency for Restricted Areas R-3008A, R-3008B, R-3008C, and R-3008D; Grand Bay Weapons Range, GA

AGENCY: Federal Aviation Administration (FAA), DOT.

ACTION: Final rule.

SUMMARY: This action changes the name of the using agency for Restricted Areas R-3008A, R-3008B, R-3008C, and R-3008D, Grand Bay Weapons Range, GA, from the “347th Fighter Wing” to the “347th Rescue Wing.” This change is required due to the U.S. Air Force's realignment of missions at Moody Air Force Base (AFB), GA, which is the sponsor of the Grand Bay Weapons Range. This change is administrative only to reflect the proper host unit at the base. The change will not affect the current restricted area boundaries, altitudes, time of designation, or the activities conducted within the areas.

EFFECTIVE DATE: 0901 UTC, November 1, 2001.

FOR FURTHER INFORMATION CONTACT: Paul Gallant, Airspace and Rules Division, ATA-400, Office of Air Traffic Airspace Management, Federal Aviation Administration, 800 Independence Avenue, SW., Washington, DC 20591; telephone (202) 267-8783.

SUPPLEMENTARY INFORMATION:

Background

The U.S. Air Force is realigning the missions at Moody AFB, GA. In conjunction with this change, the Air Force has redesignated host unit for the base as the 347th Rescue Wing. The 347th Rescue Wing serves as the sponsoring unit and scheduling activity for Restricted Areas R-3008A, R-3008B, R-3008C, and R-3008D.

The Rule

This action amends 14 CFR part 73 by changing the name of the using agency for Restricted Areas R-3008A, R-3008B, R-3008C, and R-3008D, Grand Bay Weapons Range, GA, from “U.S. Air Force, 347th Fighter Wing, Moody AFB, GA,” to “U.S. Air Force, 347th Rescue Wing, Moody AFB, GA.” This administrative change will not alter the boundaries, altitudes, time of designation, or activities conducted within the restricted areas; therefore, I find that notice and public procedure under 5 U.S.C. 553(b) are unnecessary.

Section 73.30 of part 73 was republished in FAA Order 7400.8H, dated September 1, 2000.

This regulation is limited to an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. It has been determined that this is a routine matter that will only affect air traffic procedures and air navigation, it is certified that this rule, when promulgated, will not have a significant economic impact on a substantial number of small entities under the criteria of the Regulatory Flexibility Act.

Environmental Review

This action is a minor administrative change to amend the designated using agency of existing restricted areas. There are no changes to air traffic control procedures or routes as a result of this action. Therefore, this action is not subject to environmental assessments and procedures in accordance with FAA Order 1050.1D, “Policies and Procedures for Considering Environmental Impacts,” and the National Environmental Policy Act of 1969.

List of Subjects in 14 CFR Part 73

Airspace, Navigation (air).

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.30 [Amended]

2. § 73.30 is amended as follows:

* * * * *

R-3008A Grand Bay Weapons Range, GA [Amended]

By removing “Using agency. U.S. Air Force, 347th Fighter Wing, Moody AFB, GA” and substituting “Using agency. U.S. Air Force, 347th Rescue Wing, Moody AFB, GA” in its place.

R-3008B Grand Bay Weapons Range, GA [Amended]

By removing “Using agency. U.S. Air Force, 347th Fighter Wing, Moody AFB, GA” and substituting “Using agency. U.S. Air Force, 347th Rescue Wing, Moody AFB, GA” in its place.

R-3008C Grand Bay Weapons Range, GA [Amended]

By removing “Using agency. U.S. Air Force, 347th Fighter Wing, Moody AFB, GA” and substituting “Using agency. U.S. Air Force, 347th Rescue Wing, Moody AFB, GA” in its place.

R-3008D Grand Bay Weapons Range, GA [Amended]

By removing “Using agency. U.S. Air Force, 347th Fighter Wing, Moody AFB, GA” and substituting “Using agency. U.S. Air Force, 347th Rescue Wing, Moody AFB, GA” in its place.

* * * * *

Issued in Washington, DC, on August 23, 2001.
Reginald C. Matthews,
Manager, Airspace and Rules Division.

[FR Doc. 01-21816 Filed 8-28-01; 8:45 am]

BILLING CODE 4910-13-P